DEPARTMENT OF TRANSPORTATION

Maritime Administration

[Docket Number MARAD-2023-0119]

Deepwater Port License Application: Grand Isle LNG Operating Company, LLC; Application Withdrawal

AGENCY: Maritime Administration, Department of Transportation.

ACTION: Notice of application withdrawal.

SUMMARY: The Maritime Administration (MARAD) and the U.S. Coast Guard (USCG) announce the cancellation of all actions related to the processing of a license application for the proposed Grand Isle LNG Export Deepwater Port Development Project deepwater port. The action announced here also includes cancellation of all activities related to the deepwater port application review and preparation of an Environmental Impact Statement that was previously published in the Federal Register on Monday, July 3, 2023. The publication of this notice is in response to the applicant's decision to withdraw the application.

DATES: The cancellation of all actions related to this deepwater port license application was effective February 29, 2023.

ADDRESSES: The public docket for the Grand Isle LNG Export Deepwater Port Development Project deepwater port license application is maintained by the U.S. Department of Transportation, Docket Management Facility located at the U.S. Department of Transportation, 1200 New Jersey Avenue SE, West Building, Room W12-140, Washington, DC 20590. The docket may be viewed electronically at https://www.regulations.gov and searching for the docket number, MARAD-2023-0119.

FOR FURTHER INFORMATION CONTACT: Contact either Mr. Brian S. Barton at the Maritime Administration via email at Brian.Barton@dot.gov or by calling 202-366-0302, or the U.S. Coast Guard via email at DeepwaterPorts@uscg.mil.

SUPPLEMENTARY INFORMATION: On February 28, 2024, MARAD received notification from the applicant, Grand Isle LNG Operating Company, LLC (Grand Isle LNG), of the withdrawal of its application to own, construct, and operate a liquefied natural gas (LNG) export deepwater port facility, located approximately 11.3 nautical miles (13 statute miles, or 20.9 kilometers) offshore Plaquemines Parish, Louisiana. Consequently, MARAD has terminated all activities pertaining to Grand Isle LNG's deepwater port license application. All agency records and documents related to the Grand Isle LNG's deepwater port license application will be preserved and retained by MARAD and USCG. Further information pertaining to this application may be found in the public docket (see ADDRESSES).

(Authority: 33 U.S.C. 1501, et seq.; 49 CFR 1.93(h))

By Order of the Maritime Administrator.
T. Mitchell Hudson, Jr.,
Secretary, Maritime Administration.

[FR Doc. 2024-05939 Filed 3-20-24; 8:45 am]

BILLING CODE 4910-81-P